DEPARTMENT OF COMMERCE

National Oceanic and Atmospheric Administration

50 CFR Parts 216 and 300

[Docket No. 200910-0236]

RIN 0648-BH48

International Fisheries; Pacific Tuna Fisheries; Procedures for the Active and Inactive Vessel Register

AGENCY: National Marine Fisheries Service (NMFS), National Oceanic and Atmospheric Administration (NOAA), Commerce.

ACTION: Final rule; date of effectiveness for collection-of-information requirements.

SUMMARY: NMFS announces approval by the Office of Management and Budget (OMB) of collection-of-information requirements contained in regulations published in a final rule on December 20, 2019. The final rule implements International Maritime Organization (IMO) requirements in Inter-American Tropical Tuna Commission (IATTC) Resolution C-18-06 (Resolution (Amended) on a Regional Vessel Register) and amendments to existing regulations governing inclusion on the IATTC Regional Vessel Register (Vessel Register) by purse seine vessels fishing in the eastern Pacific Ocean (EPO). The intent of this final rule is to inform the public of the effectiveness of the collection-of-information requirements associated with the final rule.

DATES: This final rule is effective September 18, 2020. The amendments in amendatory instructions 2 and 6, published at 84 FR 70040 (December 20, 2019), are effective on September 18, 2020.

ADDRESSES: Copies of supporting documents are available via the Federal eRulemaking Portal: http://www.regulations.gov, docket NOAA-NMFS-2018-0030, or by contacting Daniel Studt, NMFS West Coast Region, 501 W Ocean Blvd., Suite 4200, Long Beach, CA 90802, or emailing WCR.HMS@noaa.gov.

Written comments regarding the burden-hour estimates or other aspects of the collection-of-information requirements contained in this rule may be submitted to the NMFS West Coast Region Long Beach Office at the address listed above, and to www.reginfo.gov/public/do/PRAMain. Find this particular information collection by using the search function.

FOR FURTHER INFORMATION CONTACT: Daniel Studt, NMFS, West Coast Region, 562-980-4073.

SUPPLEMENTARY INFORMATION:

Background

On December 20, 2019, NMFS published a final rule in the Federal Register (84 FR 70040) under the Tuna Conventions Act of 1950, as amended, and the Marine Mammal Protection Act, as amended, to implement IMO requirements in IATTC Resolution C-18-06 (Resolution (Amended) on a Regional Vessel Register) and amendments to existing regulations governing inclusion on the Vessel Register by purse seine vessels fishing in the EPO. That final rule became effective January 21, 2020, except for amendatory instructions that included new or revised information collections, which were delayed until publication of a document in the Federal Register announcing the effective date. OMB has approved these collection-of-information requirements under control number 0648-0387. Accordingly, this final rule announces effectiveness of the collection-of-information requirements at 50 CFR 216.24 and 50 CFR 300.22 that were published in the December 20, 2019 final rule. On June 10, 2020, a final rule was published in the Federal Register announcing the effectiveness of these collection-of-information requirements and a correcting amendment (85 FR 35379). However, that final rule did not result in the effectiveness of these collection-of-information requirements due to an error in the DATES section, which is corrected in this final rule.

Classification

This final rule has been determined to be not significant for the purposes of Executive Order 12866. This rule is not an Executive Order 13771 regulatory action because this rule is not significant under Executive Order 12866.

This final rule announces the date of effectiveness of new and revised collection-of-information requirements approved by OMB under PRA control number 0648-0387 that were published in the Federal Register (84 FR 70040) on December 20, 2019. Comments regarding the burden estimates, or any other aspects of the collection of information may be sent to the NMFS West Coast Region Long Beach Office (see ADDRESSES above) and to www.reginfo.gov/public/do/PRAMain. Find this particular information collection by using the search function and entering the title of the collection or the OMB Control Number (0648-0387). Notwithstanding any other provision of the law, no person is required to respond to, nor shall any person be subject to a penalty for failure to comply with, a collection of information subject to the requirements of the PRA, unless that collection of information displays a currently valid OMB Control Number. All currently approved NOAA collections of information may be viewed at: http://www.cio.noaa.gov/services_programs/prasubs.html.

The NOAA Assistant Administrator for Fisheries (AA) finds there is good cause to waive prior notice and opportunity for public comment for this action pursuant to 5 U.S.C. 553(b)(B) of the Administrative Procedure Act (APA), because prior notice and opportunity for public comment on this final rule is unnecessary and contrary to the public interest. In part, this action simply provides notice of OMB's approval of the reporting requirements at issue, which has already occurred, and renders those requirements effective. Thus, this part of this action does not involve any further exercise of agency discretion by NMFS or OMB. Moreover, the public has had prior notice and the opportunity to comment on the collection-of-information requirements. NMFS published a proposed rule including the collection-of-information requirements on April 16, 2019 (84 FR 15556), with comments accepted through May 16, 2019. NMFS received two comments on the collection-of-information requirements related to a proposed supplementation of a vessel departure notification and an ability to apply for associated permit applications online. The final rule published on December 20, 2019 (84 FR 70040), addressed these comments, keeping the proposed supplemental vessel departure notice in place for the reasons described there, while revising the purse seine vessel permit application collection-of-information requirements to allow for an online process. Both such processes were considered and approved under PRA control number 0648-0387. Additional opportunity for public comment at this point would not be meaningful and would be duplicative. Any further delay to allow for public comment is therefore unnecessary and would result in public confusion.

For the aforementioned reasons, the AA also finds good cause to waive the 30-day delay in the effectiveness of this action under 5 U.S.C. 553(d)(3).

These measures are thus exempt from the procedures of the Regulatory Flexibility Act because prior notice and comment are not required under the APA.

Dated: September 14, 2020.
Samuel D. Rauch III,
Deputy Assistant Administrator for Regulatory Programs, National Marine Fisheries Service.

[FR Doc. 2020-20610 Filed 9-17-20; 8:45 am]

BILLING CODE 3510-22-P